DEPARTMENT OF COMMERCE

National Oceanic and Atmospheric Administration

50 CFR Part 660

[Docket No. 250512-0084]

RIN 0648-BN19

Fisheries Off West Coast States; West Coast Salmon Fisheries; 2025 Specifications and Management Measures

AGENCY: National Marine Fisheries Service (NMFS), National Oceanic and Atmospheric Administration (NOAA), Commerce.

ACTION: Final rule.

SUMMARY: Through this final rule, NMFS establishes fishery management measures for the ocean salmon fisheries off Washington, Oregon, and California for the season beginning May 16, 2025, and ending May 15, 2026 (the 2025 ocean salmon fishing season), under the authority of the Magnuson-Stevens Fishery Conservation and Management Act (MSA). The fishery management measures include fishing areas, seasons, quotas, legal gear, recreational fishing days and catch limits, harvest guidelines, possession and landing restrictions, and minimum lengths for salmon taken in the U.S. Exclusive Economic Zone (EEZ) off Washington, Oregon, and California. These measures are intended to prevent overfishing while achieving, on a continuing basis, the optimum yield from the fishery, to provide for the exercise of federally recognized fishing rights by West Coast Indian Tribes, to allow a portion of the salmon runs to escape the ocean fisheries in order to provide for spawning escapement, and to apportion the ocean harvest equitably among non-Indian commercial and recreational fisheries.

DATES: This final rule is effective from 0001 hours Pacific Daylight Time, May 16, 2025, until the effective date of the 2026 management measures, as published in the Federal Register, which we expect to be 0001 hours Pacific Daylight Time, May 16, 2026.

ADDRESSES: The documents cited in this document are available on the Pacific Fishery Management Council's (Council or PFMC) website (https://www.pcouncil.org) and the NMFS West Coast Region (WCR) website (https://www.fisheries.noaa.gov/action/fisheries-west-coast-states-west-coast-salmon-fisheries-2025-management-measures).

FOR FURTHER INFORMATION CONTACT: Shannon Penna at 562-980-4239, Email: Shannon.Penna@noaa.gov.

SUPPLEMENTARY INFORMATION:

Background

The ocean salmon fisheries in the EEZ (3-200 nautical miles (nmi); 5.6-370.4 kilometers (km)) off the coasts of Washington, Oregon, and California are managed under the Pacific Coast Salmon Fishery Management Plan (FMP). Regulations at 50 CFR part 660, subpart H, provide the mechanism for developing and promulgating preseason specifications and management measures and making inseason adjustments to the management measures within limits set by the FMP by notification in the Federal Register. Regulations at 50 CFR 660.408 govern the establishment of annual management measures, and regulations at 50 CFR 660.409 govern the implementation of inseason adjustments. This rule implements the management measures for the 2025 ocean salmon fishing season.

Process Used To Establish 2025 Management Measures

Ocean salmon fishery management measures are established via a collaborative process with the Council, States, Tribes, fishing industry participants, anglers, and the public. The Council announced its annual preseason management process for the 2025 ocean salmon fishing season in the Federal Register on December 11, 2024 (89 FR 99841). NMFS published an additional notice of opportunity to submit public comments on the 2025 ocean salmon fishery management measures in the Federal Register on February 19, 2025 (90 FR 9896). These notices announced the availability of key documents, the dates and locations of meetings and public hearings regarding determining the annual proposed and final modifications to ocean salmon fishery management measures, and instructions on how to comment on those measures. The agendas for the March and April Council meetings were published in the Federal Register (90 FR 9618, February 14, 2025, and 90 FR 12706, March 19, 2025) and posted on the Council's website prior to the meetings.

In accordance with the FMP, the Council's Salmon Technical Team (STT) and economist prepared four reports, which were made available on the Council's website upon their completion. The first of the reports, “Review of 2024 Ocean Salmon Fisheries,” was prepared in February when the first increment of scientific information necessary for crafting management measures for the 2025 ocean salmon fishing season became available. The first report summarizes biological and socio-economic data from the 2024 ocean salmon fisheries and assesses the performance of the fisheries with respect to the 2024 management objectives for salmon stocks and stock complexes, as well as provides historical information for comparison. The second report, “Preseason Report I Stock Abundance Analysis and Environmental Assessment Part 1 for 2025 Ocean Salmon Fishery Regulations” (PRE I), provides the 2025 salmon stock abundance projections and analyzes how the salmon stocks defined in the FMP and Council management goals would be affected if the 2024 management measures (the no-action alternative under the National Environmental Policy Act (NEPA)) were continued for the 2025 ocean salmon fishing season. The completion of PRE I is the initial step in developing and evaluating the full suite of preseason alternatives for the 2025 fishing season.

Following the completion of the first two reports, the Council met from March 4 to 11, 2025, to develop 2025 management alternatives for proposal to the public and consideration under NEPA. The Council proposed three alternatives for commercial and recreational fisheries management and three alternatives for treaty Indian fisheries management for analysis and public comment. These alternatives consisted of various combinations of management measures designed to ensure that stocks of coho salmon and Chinook salmon meet conservation goals, to provide for ocean harvests of more abundant stocks, to provide equitable sharing of harvest among ports and sectors, and to provide for the exercise of Indian treaty fishing rights. After the March Council meeting, the Council's STT and economist prepared a third report, “Preseason Report II Proposed Alternatives and Environmental Assessment Part 2 for 2025 Ocean Salmon Fishery Regulations” (PRE II), which analyzes the effects of the proposed 2025 ocean salmon fishing season management alternatives. In addition, a meeting between the U.S. and Canadian salmon managers provided additional forecast and harvest information related to southern U.S. stocks, including those that are part of the fisheries managed under the FMP.

The Council sponsored public hearings in person to receive testimony on the proposed alternatives on March 24, 2025, for Washington and Oregon, and on March 25, 2025, for California. In addition, the States of Washington, Oregon, and California sponsored meetings in various forums that also collected public testimony. The public also provided testimony at the March and April Council meetings and electronic submissions via the Council's electronic portal and https://www.regulations.gov.

Members of several federally recognized Tribes, including Tribes with treaty rights for salmon harvest, testified at the March and April Council meetings. Additional Tribal comments were submitted in writing. Tribes emphasized the cultural importance of salmon to their communities, expressed concerns over the uncertainty of forecasts for some stocks in 2025, and urged the Council to be conservative in setting the salmon seasons. Some Tribes addressed several issues in the Columbia Basin, such as habitat alteration and the need to address increased avian and pinniped predation on smolts. Columbia River treaty Tribes also expressed concerns that higher harvest levels could negatively impact hatchery brood collection and spawning escapement to local tributaries. Tribes are doing their part to improve habitat, raise hatchery fish, and expand the distribution of salmon to their historic production areas and want to ensure that the management of the fisheries in the EEZ is supporting those actions.

The Council adopted its recommendations for the 2025 ocean salmon management measures at its April meeting. The Council's STT and economist then prepared a fourth report, “Preseason Report III Analysis of Council-Adopted Management Measures for 2025 Ocean Salmon Fisheries” (PRE III), which analyzes the environmental and socioeconomic effects of the Council's final recommendations (the Council's preferred alternative under NEPA). The Council transmitted the recommended management measures to NMFS on April 24, 2025, and published them on its website (https://www.pcouncil.org).

Under the FMP, the ocean salmon management cycle begins May 16 and continues through May 15 of the following year. This final rule is effective on May 16, 2025, consistent with the FMP, and governs the federally managed ocean salmon fisheries from that date until the effective date of the 2026 management measures, which we expect to be published before May 16, 2026. Fisheries in 2025 that were open prior to May 16, 2025, were governed by the final rule implementing the salmon fishery management measures for the 2024 ocean salmon fishing season (89 FR 44553, May 21, 2024; 89 FR 53529, June 27, 2024). Salmon fisheries that were scheduled to open before May 16, 2025, under the 2024 rule are:

• Commercial ocean salmon fisheries from the U.S./Canada border to the U.S./Mexico border;

• Recreational ocean salmon fisheries from Cape Falcon, OR, to Humbug Mountain, OR;

• Recreational ocean salmon fisheries from the Oregon/California border to the U.S./Mexico border; and

• Treaty Indian troll ocean salmon fisheries north of Cape Falcon.

Several fisheries scheduled to open between March 15, 2025, and May 15, 2025, were closed or modified through inseason action in response to updated salmon stock forecast information for 2025. Analysts included the impacts of all fisheries occurring between March 15, 2025, and May 15, 2025, in their assessment of the impacts of 2025 fisheries on individual stocks.

National Environmental Policy Act

The environmental assessment (EA) for this action comprises the Council's documents described above (PRE I, PRE II, and PRE III), providing an analysis of environmental and socioeconomic effects under NEPA. The EA and its related Finding of No Significant Impact are posted on the NMFS WCR website (https://www.fisheries.noaa.gov/west-coast/laws-policies/west-coast-salmon-harvest-nepa-documents).

Resource Status

Stocks of Concern

The FMP requires that the fisheries be managed to meet escapement-based annual catch limits (ACLs), requirements to limit impacts on species listed under the Endangered Species Act (ESA), obligations of the Pacific Salmon Treaty (PST) between the United States and Canada, and other conservation objectives. In addition, all regulations must be consistent with other applicable laws; these include Tribal treaties and other sources of law regarding Tribal fisheries. The ocean salmon fisheries managed under the FMP are mixed-stock fisheries, and NMFS and the State and Tribal managers use “weak stock” management to avoid exceeding limits for the stocks with the most constraining limits. Abundance forecasts for individual salmon stocks can vary significantly from one year to the next; therefore, the stocks that constrain the fishery in one year may differ from those that constrain the fishery in the next. For 2025, the stocks described below will constrain fisheries.

Fisheries south of Cape Falcon, Oregon, are limited in 2025 primarily by conservation concerns for Klamath River fall-run Chinook salmon (KRFC), Sacramento River fall-run Chinook salmon (SRFC), ESA-listed California Coastal Chinook salmon, and ESA-listed Southern Oregon/Northern California Coast (SONCC) coho salmon.

Fisheries north of Cape Falcon are limited by conservation requirements for the natural spawning component of the ESA-listed lower Columbia River coho salmon (Lower Columbia Natural or LCN coho salmon) Evolutionarily Significant Unit (ESU) and the ESA-listed lower Columbia River (LCR) natural tule Chinook salmon. The limitations imposed to protect these stocks are described below. The management measures for 2025 are designed to avoid exceeding these limitations. Based on the most recent 3-year geometric means of spawning escapement (2021-2023, Queets River spring/summer Chinook salmon, which were designated as “overfished” in 2023, met the criteria for being classified as “not overfished, rebuilding,” but the stock will continue to be managed under the rebuilding plan until it is rebuilt. It was not a limiting stock in planning the 2025 ocean salmon fishing season.

KRFC (non-ESA-listed): Abundance for this non-ESA-listed stock in the last decade has been historically low, and the stock continues to meet the criteria for overfished based on spawning escapement in 2022, 2023, and 2024. The stock is managed under a rebuilding plan consistent with the requirements of the MSA and the FMP. See 50 CFR 660.413(a). The FMP defines “overfished” status in terms of whether a 3-year geometric mean escapement level is below the minimum stock size threshold (MSST). The KRFC salmon stock has been managed under de minimus exploitation rates that apply when forecast escapement is below the level associated with maximum sustainable yield (SMSY) since 2020. Under the rebuilding plan, which includes the harvest control rule for KRFC described in the FMP, the 2025 forecast allows only de minimis fishing this year, i.e., a total allowable exploitation rate of 10 percent (including all ocean and river fisheries, including Tribal fisheries). This limit will constrain fisheries south of Cape Falcon. The potential for critically low natural spawner abundance could be considered high. The 2025 management measures are forecast to result in an escapement of 19,417 KRFC natural spawners, which is below the stock's MSST (30,525). A natural-area escapement of 19,417 adults would represent the seventh lowest value over the past 49 years of data.

SRFC (non-ESA-listed): In 2021, NMFS declared the SRFC salmon stock rebuilt (87 FR 25429) due to several years of higher escapements; however, escapements in recent years have once again been low compared with the stock's conservation objective, and caution is warranted to reduce the likelihood that the stock becomes overfished again. Spawner abundance has been below the escapement floor of 122,000 associated with the FMP objective in six of the last nine years (2016-2024). The 3-year geometric mean of spawners is now 93,660 (2022, 2023, and 2024) as compared with the MSST of 91,500 at which the stock would meet the criteria of overfished. The adopted management measures result in a projected escapement of 165,655, which is below the upper end of the conservation objective range of 122,000-180,000 combined hatchery and natural area adult spawners. The Sacramento River also experienced low flows and high temperatures in recent years associated with decades of frequent droughts; these conditions have adversely affected the stock. The dominant year class contributing to 2025 fisheries (brood year 2022) improved compared to previous (poor) years.

SONCC coho salmon (ESA-listed threatened): The SONCC coho salmon ESU has been listed as threatened under the ESA since 1997. Conservation concerns for ESA-listed SONCC coho salmon will limit fisheries south of Cape Falcon in 2025. The SONCC coho salmon ESU consists of all naturally produced populations of coho salmon from coastal streams between Cape Blanco, OR, and Punta Gorda, CA, and limited artificial propagation programs. Under the FMP, ESA consultation standards are used to manage ESA-listed stocks, including SONCC coho salmon. In April 2022, NMFS approved new harvest control rules that limit the total fishery (marine and freshwater) exploitation rate to 15 percent for all populations within the SONCC ESU except the Trinity River coho salmon population, which is limited to 16 percent. Coho salmon retention is not permitted in California ocean salmon fisheries. Salmon in 2025 will be managed consistent with these harvest control rules.

CC Chinook salmon—ESA-listed Threatened: The CC Chinook salmon ESU has been listed as threatened under the ESA since 1999. The ESU has been managed for a consultation standard not to exceed a 16 percent age-4 ocean harvest rate on KRFC salmon. In 2024, following several years in which the consultation standard was exceeded, NMFS approved a set of management measures to avoid further exceedances. 50 CFR 660.410(d). One of the measures is to use a buffer on the consultation standard to ensure ocean harvest rates do not exceed the 0.16 age-4 KRFC harvest rate consultation standard. For 2025, the ocean salmon fisheries were designed to avoid exceeding a buffered pre-season age-4 KRFC harvest rate of 7.7 percent. The 2024 biological opinion determined that authorization of the ocean salmon fishery in the EEZ through promulgation of regulations implementing the salmon FMP, including the CC Chinook salmon conservation objective and implementation of the new management measures, would not jeopardize the CC Chinook salmon ESU.

Lower Columbia River (LC) coho salmon (ESA-listed threatened): The LC coho salmon ESU has been listed as threatened under the ESA since 2005. In 2015, NMFS conducted the most recent ESA section 7 consultation and issued a biological opinion regarding the effects of Federal fisheries and fisheries in the Columbia River on LC coho salmon. The opinion analyzed the use of a harvest matrix to manage impacts on LC coho salmon. As described above, management under the FMP is focused on LCN coho salmon, the natural component of the LC coho salmon ESU. Under the matrix, the allowable harvest in a given year depends on indicators of marine survival and parental escapement that influence spawning in the current year. In 2025, Federal ocean salmon fisheries and commercial and recreational salmon fisheries in State waters, including the mainstem Columbia River below Bonneville Dam, must be managed subject to a total exploitation rate limit on LCN coho salmon not to exceed 23 percent. In 2025, LCN coho salmon will constrain the salmon fisheries in the EEZ, particularly those north of Cape Falcon, such that, when combined with commercial and recreational fisheries in State marine waters and the mainstem Columbia River, the ESA requirement is met.

LCR Chinook salmon (ESA-listed threatened): The LCR Chinook salmon ESU comprises a spring component, a “far-north” migrating bright component, and a tule component. The bright and tule components both have fall run timing. There are twenty-one separate populations within the tule component of this ESU. Unlike the spring or bright populations of the ESU, LCR tule populations are caught in large numbers in Federal fisheries off the southern U.S. West Coast, as well as fisheries to the north (Canada and Alaska) and in the Columbia River. Therefore, this component of the ESU is the one most likely to constrain Federal fisheries in the area between the U.S. Canada border and Cape Falcon. These Federal fisheries are managed subject to an abundance-based management (ABM) framework that NMFS analyzed in a 2012 biological opinion, after accounting for anticipated impacts in northern fisheries and other fisheries that are outside the action area. Applying the ABM framework to the 2025 preseason abundance forecast, the total LCR tule exploitation rate for all salmon fisheries is limited to a maximum of 41 percent. Fisheries will be constrained north of Cape Falcon in 2025 such that when combined with all other salmon fisheries in the ocean and the Columbia River below Bonneville Dam, the ESA requirement is met.

Other Resource Issues

Southern Resident Killer Whale (SRKW) (ESA-listed endangered): The SRKW distinct population segment was listed under the ESA as endangered in 2005 (70 FR 69903, November 18, 2005). In 2021, NMFS approved Amendment 21 to the FMP (86 FR 51017, September 14, 2021), which establishes a Chinook salmon annual abundance management threshold below which specific measures to limit the effects of the ocean salmon fishery on Chinook salmon prey availability for SRKWs are implemented. These measures include time and area closures, a quota limitation for the north of Cape Falcon management area, and temporal shifts in fishing. The forecast abundance compared with the Chinook salmon abundance threshold is reported annually in the above-referenced preseason reports as required by the FMP.

Because the pre-season estimate of the abundance of Chinook salmon in 2025 exceeds the threshold in the FMP, additional management measures are not required by the FMP, including amendment 21 (Preseason Report III; PFMC 2025).

ACLs and Status Determination Criteria

ACLs are required for all stocks or stock complexes in the fishery that are not managed under an international agreement, listed under the ESA, or designated as hatchery stocks. ACLs are set for two Chinook salmon stocks, SRFC and KRFC, and one coho salmon stock, Willapa Bay natural coho salmon. The SFRC and KRFC salmon stocks are indicator stocks for the Central Valley Fall Chinook salmon complex and the Southern Oregon/Northern California Chinook salmon complex, respectively. The Far North Migrating Coastal Chinook salmon complex (FNMC) includes a group of Chinook salmon stocks that are caught primarily in fisheries north of Cape Falcon and other fisheries occurring north of the U.S./Canada border. No ACL is set for FNMC stocks because they are managed subject to provisions of the PST between the United States and Canada (the MSA provides an international exception from ACL requirements that applies to stocks or stock complexes subject to management under an international agreement, which NMFS defines by regulation “any bilateral or multilateral treaty, convention, or agreement which relates to fishing and to which the United States is a party” (50 CFR 600.310(h)(1)(ii)). Other Chinook salmon stocks caught in fisheries north of Cape Falcon are ESA-listed or hatchery-produced and are managed consistent with ESA consultations, hatchery goals, or the provisions of the PST. Willapa Bay natural coho salmon is the only coho salmon stock for which an ACL is set, as the other coho salmon stocks in the FMP are either ESA-listed, hatchery-produced, or managed under the PST.

ACLs for salmon stocks are escapement-based, which means they establish a number of adults that must escape the fisheries to return to the spawning grounds. ACLs are set based on the annual potential spawner abundance forecast and a fishing rate reduced to account for scientific uncertainty. In addition to ACLs, SRFC and KRFC have conservation objectives expressed in terms of escapement goals that were developed prior to the requirement for ACLs. Where the conservation objectives exceed the ACLs, the management measures are designed to achieve the conservation objectives. The surviving stock after fishery-related mortality is generally referred to as spawning escapement (S), and the proportion of the stock that succumbs to fishing-related mortality is generally referred to as the exploitation rate (F). These metrics constitute conservation objectives for FMP Stocks. In addition, FMSY is the fishing mortality rate that would result in MSY, S acceptable biological catch (ABC) is the spawner escapement that is associated with the acceptable biological catch, and SOFL is the spawning escapement associated with the overfishing limit (OFL).

For SRFC in 2025, FMSY = 0.58. The SRFC FMSY proxy of 0.58 was adopted in November 2024 following the 2024 Methodology Review. The OFL for SRFC is SOFL = 165,655 × (1−0.58) = 69,575. Because SRFC is a Tier-2 stock, FABC = FMSY × 0.90 = 0.52, and FACL = FABC. The ABC for SRFC is SABC = 165,655 × (1−0.52) = 79,514, with SACL = SABC. The recommended management measures provide for a projected SRFC spawning escapement of 147,733.

For KRFC in 2025, FMSY = 0.71, the value estimated from a stock-specific spawner-recruit analysis (STT 2005). The OFL for KRFC is = 20,763 × (1−0.71) = 6,021. Because KRFC is a Tier-1 stock, FABC = FMSY × 0.95 = 0.68, and FACL = FABC. The ABC for KRFC is SABC = 20,763 × (1−0.68) = 6,644, with SACL = SABC. The recommended management measures provide for a projected KRFC spawning escapement of 19,417.

For Willapa Bay natural coho salmon in 2025, FMSY = 0.74, the value estimated from a stock-specific spawner-recruit analysis. The OFL for Willapa Bay natural coho salmon is SOFL = 39,939 × (1−0.74) = 10,384. Because Willapa Bay natural coho salmon are a Tier-1 stock, FABC = FMSY × 0.95 = 0.70, and FACL = FABC. The ABC for Willapa Bay natural coho salmon is SABC = 39,939 × (1−0.70) = 11,982, with SACL = SABC. The recommended management measures provide for a projected Willapa Bay natural coho salmon spawning escapement of 16,101.

In summary, the 2025 management measures are expected to result in escapements greater than required to meet the ACLs for all three stocks with defined ACLs.

Public Comments

The Council invited written comments on developing 2025 salmon management measures in their notice announcing public meetings and hearings (89 FR 99841, December 11, 2024). At its March meeting, the Council developed 3 alternatives for 2025 commercial and recreational salmon management measures, having a range of quotas, season structure, and impacts, as well as 3 alternatives for 2025 North of Cape Falcon Treaty Indian troll ocean salmon management measures. These alternatives are described in detail in PRE II. Subsequently, comments were taken at three public hearings held in March, staffed by representatives of the Council and the States. The Council received 294 written comments via their electronic portal and 17 oral comments on the 2025 ocean salmon fisheries, including from members of the public who commented several times. The 3 public hearings were attended by a total of 122 people; 40 people provided oral comments. Comments came from individual fishers, fishing associations, fish buyers, processors, conservation organizations, and the general public. Written and oral comments addressed the 2025 management alternatives described in PRE II and generally expressed preferences for a specific alternative or for particular season structures. All written comments were made available via the Council's online briefing books for the March and April 2025 Council meetings. In addition to comments collected at the public hearings and those submitted directly to the Council, several people provided oral comments at the March and April 2025 Council meetings. Written and oral comments received were considered by the Council, which includes a representative from NMFS, in developing the recommended management measures transmitted to NMFS on April 24, 2025. NMFS also invited comments to be submitted directly to the Council or NMFS via the Federal Rulemaking Portal (https://www.regulations.gov) in a notice (90 FR 9896, February 19, 2025); NMFS received no comments via the Federal Rulemaking Portal.

Comments on alternatives for commercial salmon fisheries. Those testifying on north of Cape Falcon commercial salmon fisheries at the Washington hearing supported the non-treaty quotas and season structure from Alternative I. Alternative I allows for time/area adjustments over quota reductions to meet conservation objectives. These commenters expressed support for inseason management as an invaluable tool to meet conservation objectives while allowing flexibility to attain the full quota. They also supported increased opportunities to help engage the younger generation and promote commercial fishing as a viable livelihood. Those testifying on south of Cape Falcon commercial salmon fisheries at the Oregon hearing supported Alternative I. Significant investments have been made for the upcoming season, and this alternative would help recover the costs and give the fleet an opportunity to survive and support their families and communities. The written comments from California supported Alternative III (i.e., closure of commercial salmon fishing) to support SRFC and KRFC stock recovery. Those testifying at the California hearing largely supported a hybrid of Alternative I and II. They suggested that conducting a small-scale fishery would allow the new management measures for California Coastal Chinook salmon to be implemented in a more controlled environment. This rule adopts commercial fishing measures north and south of Cape Falcon that are within the range of the alternatives considered.

Comments on alternatives for recreational fisheries. Those testifying on fishery management alternatives north of Cape Falcon favored Alternative I and Alternative III. Alternative I would give coastal communities a chance to rebuild after years of reduced fishing due to limited harvest quotas, while Alternative III allows for the best opportunity to meet conservation goals and shift opportunities to the guide communities that rely on them. Those commenting on fishery alternatives south of Cape Falcon in Oregon expressed a range of opinions on the alternatives that allow for two or three weeks of Chinook salmon retention spread out through June, July, and August. The majority of comments from California supported fishing under Alternative I. Fishing is important to them and their families; another year of closures would be harmful to their businesses. They also emphasized the importance of good management practices and urged the Council to explore ways to open even a small fishery. This final rule establishes recreational fishing measures north and south of Cape Falcon that are within the range of alternatives considered.

The final rule reflects consideration of these comments and generally includes aspects of all three alternatives, while considering the best available scientific information, the best use of limited opportunity given impacts to stocks of concern, and ensuring that fisheries are consistent with impact limits and accountability measures for ESA-listed species, ACLs and other MSA requirements, PST obligations, and Tribal fishing rights.

2025 Specifications and Management Measures

The ocean harvest levels and management measures for the 2025 fisheries are designed to apportion the burden of protecting the weak stocks identified and discussed in PRE I equitably among ocean fisheries and to provide harvest opportunity of natural and hatchery runs surplus to inside fishery and spawning needs. Similar to 2024, commercial fisheries north of Cape Falcon, Chinook salmon quotas are higher due to a higher forecasted abundance for Lower Columbia River tule Chinook salmon. In 2025, coho salmon quotas will be comparatively lower due to the lower forecasted abundance of coho salmon stocks returning to the Oregon coast and Columbia River areas. Commercial fisheries south of Cape Falcon will be heavily constrained in Oregon and closed in California owing to its low abundance forecast for SRFC and KRFC. Based on the information provided in the four reports described above, the EA, and discussion at public meetings and taking into account public comments, NMFS concludes the recommended measures are consistent with the requirements of the MSA, the ESA, U.S. obligations to Indian Tribes with federally recognized fishing rights, and U.S. international obligations regarding Pacific salmon. Accordingly, NMFS, through this final rule, approves and implements the Council's recommendations.

The timing of the March and April Council meetings makes it impracticable for the Council to recommend fishing seasons that begin before mid-May of the same year. Therefore, this action also establishes the early season fisheries that open earlier than May 16, 2026. The commercial and recreational seasons are scheduled to open after May 15, 2025, as indicated in “Section 1. Commercial, Non-Indian, Troll Fishery Management Measures” and “Section 2. Recreational Fishery Management” of this final rule. NMFS may take inseason action to adjust the commercial and recreational seasons as needed. The Treaty Indian ocean troll seasons will open in 2025 as indicated in “Section 3. Treaty Indian Management Measures.” In 2026, the Treaty Indian ocean troll season is scheduled to open May 1, consistent with all preseason regulations in place for Treaty Indian troll fisheries during May 16-June 30, 2025. This opening could be modified via inseason action.

Sections 1, 2, and 3 below set out the final specifications and management measures for the commercial, recreational, and Treaty Indian ocean salmon fisheries for 2025 and, as specified, for 2026. Section 4 provides requirements for halibut retention; Section 5 provides geographical landmarks; and Section 6 specifies notice procedures for inseason modifications. Those elements of the measures set forth in sections 1 through 3 that refer to fisheries implemented prior to May 16, 2025, were promulgated in our 2024 rule (89 FR 44553, May 21, 2024; 89 FR 53529, June 27, 2024), as modified by inseason action, and are included for information only and to provide continuity for the public across fishing seasons and for States adopting conforming regulations each May that refer to the Federal rule for the same year.

As discussed above, aspects of these measures may be adjusted through inseason action taken under 50 CFR 660.409, based on information that becomes available during the season. Harvest guidelines and vessel-based landing and possession limits will be considered inseason. Inseason action to close fisheries, modify season dates, or modify vessel-based landing and possession limits may be considered when total commercial harvest in this management area is approaching its harvest guideline.

Section 1. Commercial, Non-Indian Fishery Management Measures

Parts A, B, and C of this section contain the requirements for participation in the 2025 commercial, non-Indian, salmon troll fishery. Part A identifies fishing seasons and areas from north to south, the salmon species and catch or landing limits allowed to be caught during the seasons, and any other special restrictions effective in the area. Part B specifies minimum size limits. Part C specifies other requirements, definitions, restrictions, and exceptions.

Inseason modifications of the regulations may be necessary to address conditions arising during the fishing season. See 50 CFR 660.409.

A. Season, Area, and Species Descriptions

North of Cape Falcon, OR

Spring Season

May 16 through the earlier of June 29 or the attainment of 36,800 Chinook salmon. If the Chinook salmon quota is exceeded, the excess will be deducted from the summer all-salmon season described below.

Subarea guidelines are in place for the following areas:

U.S./Canada Border to Queets River

No more than 8,000 Chinook salmon.

Leadbetter Point to Cape Falcon

No more than 6,000 Chinook salmon.

Landing and possession limits are in place for the following areas and will be evaluated weekly, inseason. Landing week is Thursday through Wednesday.

U.S./Canada Border to Queets River

100 Chinook salmon per vessel per landing week.

Queets River to Leadbetter Point

No weekly Chinook salmon landing and possession limit.

Leadbetter Point to Cape Falcon

80 Chinook salmon per vessel per landing week.

Open seven days per week. All salmon, except coho salmon.

In 2026, the season will open May 1, consistent with all preseason regulations in place in this area and subareas during May 16-June 29, 2025, including subarea salmon guidelines and quotas and weekly vessel limits except as described below for vessels fishing or in possession of salmon north of Leadbetter Point.

Summer Season

U.S./Canada Border to Leadbetter Point

July 1 through the earlier of September 15 or when attainment of the U.S./Canada Border to Cape Falcon quotas of 24,450 Chinook salmon or 8,280 marked coho salmon.

Leadbetter Point to Cape Falcon

July 1 through the earlier of September 30 or when attainment of the U.S./Canada Border to Cape Falcon quotas of 24,450 Chinook salmon or 8,280 marked coho salmon.

Open seven days per week. All salmon. All coho salmon must be marked with a healed adipose fin clip. No chum salmon retention north of Cape Alava, Washington, in August and September.

July 1-9: landing and possession limit of 60 marked coho salmon per vessel for the open period.

Beginning July 10: landing and possession limit of 60 marked coho salmon per vessel per landing week (Thursday-Wednesday).

Landing limits will be evaluated weekly inseason.

For all commercial troll fisheries north of Cape Falcon: Mandatory closed areas include the Salmon Troll Yelloweye Rockfish Conservation Area (YRCA), Cape Flattery, and Columbia Control Zones.

Vessels must land and deliver their salmon within 24 hours of any closure of this fishery. Vessels may not land fish east of the Sekiu River or east of Tongue Point, OR.

During any single trip, only one side of the Leadbetter Point line may be fished.

Vessels fishing for or in possession of salmon north of Leadbetter Point must land and deliver all species of fish in a Washington port and must possess a Washington troll and/or salmon delivery license. For delivery to Washington ports south of Leadbetter Point, vessels must notify the Washington Department of Fish and Wildlife (WDFW) at 360-249-1215 prior to crossing the Leadbetter Point line with area fished, total Chinook salmon, coho salmon, and halibut catch aboard, and destination with approximate time of delivery.

Vessels fishing or in possession of salmon south of Leadbetter Point must land and deliver all species of fish within the area and south of Leadbetter Point, except that Oregon permitted vessels may also land all species of fish in Garibaldi, OR. Washington permitted vessels may also land all species of fish north of Leadbetter Point. For delivery to Washington ports north of Leadbetter Point, vessels must notify WDFW at 360-249-1215 prior to crossing the Leadbetter Point line with area fished total Chinook salmon, coho salmon, and halibut catch aboard, and destination with approximate time of delivery. All Chinook salmon caught north of Cape Falcon and being delivered by boat to Garibaldi, OR, must meet the minimum legal total length of 28 inches (71.1 centimeters (cm)) for Chinook salmon for south of Cape Falcon seasons unless the season in waters off Garibaldi, OR, have been closed for Chinook salmon retention for more than 48 hours.

Under State law, vessels must report their catch on a State fish receiving ticket. Oregon State regulations require all fishers landing salmon into Oregon from any fishery between Leadbetter Point and Cape Falcon to notify the Oregon Department of Fish and Wildlife (ODFW) within 1 hour of delivery or prior to transport away from the port of landing by either calling 541-857-2546 or sending notification via email to nfalcon.trollreport@odfw.oregon.gov. Notification shall include vessel name and number, number of salmon by species, port of landing, location of delivery, and estimated time of delivery.

Vessels in possession of salmon may not cross the Queets River line without first notifying WDFW at 360-249-1215 with area fished, total Chinook salmon, coho salmon, and halibut catch abroad, and destination. Inseason actions may modify harvest guidelines in later fisheries to achieve or prevent exceeding the overall allowable troll harvest impacts.

Vessels fishing in a subarea north of Cape Falcon with a higher limit may transit through and land in a subarea with a lower limit. Prior to crossing the subarea line at Leadbetter Point or Queets River, vessels must notify WDFW at 360-249-1215 with the area fished, total Chinook salmon, coho salmon, and halibut catch aboard, and destination with approximate time of delivery.

South of Cape Falcon, OR

Cape Falcon to Heceta Bank Line

June 9-30;

July 16-31.

Open seven days per week. All salmon, except coho salmon, except during the non-mark-selective coho salmon fishery as described below. All vessels fishing in the area must land their salmon in Oregon.

All fishers landing Chinook salmon south of the Heceta Bank Line are required to notify ODFW within one hour of delivery or prior to transport away from the port of landing by either calling 541-857-2546 or sending notification via email to nfalcon.trollreport@odfw.oregon.gov. Notification shall include vessel name and number, number of Chinook salmon, port of landing and location of delivery, and estimated time of delivery.

Cape Falcon to Humbug Mountain

May 16-31;

September 1-October 31.

Open seven days per week. All salmon except coho salmon, except during the non-mark-selective coho salmon fishery as described below. All vessels fishing in the area must land their salmon in Oregon.

Beginning September 1, all salmon until the earlier of September 30 or attainment of a 7,500 non-mark-selective coho salmon quota. If the coho salmon quota is met prior to September 30, then all salmon except coho salmon season continues. No more than 75 coho salmon per vessel per landing week when coho retention is allowed and no more than 75 Chinook salmon allowed per vessel per landing week (Thursday-Wednesday).

Oregon State regulations require all fishers landing coho salmon into Oregon from any fishery between Cape Falcon, OR, and Humbug Mountain to notify ODFW within one hour of delivery or prior to transport away from the port of landing by either calling 541-857-2546 or sending notification via email to nfalcon.trollreport@odfw.oregon.gov. Notification shall include vessel name and number, number of salmon by species, port of landing, location of delivery, and estimated time of delivery.

In 2026, the season will open on March 15 for all salmon except coho salmon. All vessels fishing in the area must land their salmon in the State of Oregon. Gear restrictions same as in 2025 (identified below).

Humbug Mountain to Oregon/California Border

Closed.

In 2026, the season will open on March 15 for all salmon except coho salmon. Gear restrictions are the same as in 202 (89 FR 44553, May 21, 2024; 89 FR 53529, June 27, 2024).

Oregon/California Border to Humboldt South Jetty (California Klamath Management Zone (KMZ))

Closed.

In 2026, the season will open May 1 through the earlier of May 31 or attainment of a 3,000 Chinook salmon quota. Landing and possession limit of 20 Chinook salmon per vessel per week. Open five days per week (Friday-Tuesday). All salmon except coho salmon. Any remaining portion of Chinook salmon quotas may be transferred inseason on an impact neutral basis to the next open quota period. All fish caught in this area must be landed within the area, within 24 hours of any closure of the fishery, and prior to fishing outside the area. Electronic Fish Tickets must be submitted within 24 hours of landing. Klamath Control Zone closed. See California State regulations for an additional closure adjacent to the Smith River.

Humboldt South Jetty to Latitude 40°10′ N

Closed.

Latitude 40°10′ N to Point Arena (Fort Bragg)

Closed.

In 2026, the season opens on April 16 for all salmon except coho salmon. Gear restrictions are the same as in 2022 (87 FR 29690, May 16, 2022). Electronic Fish Tickets must be submitted within 24 hours of landing.

Point Arena to Pigeon Point (San Francisco)

Closed.

In 2026, the season opens May 1 for all salmon except coho salmon. Gear restrictions are the same as in 2022 (87 FR 29690, May 16, 2022) Harvest guidelines and vessel-based landing and possession limits will be considered inseason. Inseason action to close fisheries, modify season dates, or modify vessel-based landing and possession limits may be considered when total commercial harvest in this management area is approaching its harvest guideline. Electronic Fish Tickets must be submitted within 24 hours of landing.

Pigeon Point to the U.S./Mexico Border (Monterey)

Closed.

In 2026, the season opens May 1 for all salmon except coho salmon. Gear restrictions same as in 2022 (87 FR 29690, May 16, 2022). Harvest guidelines and vessel-based landing and possession limits will be considered inseason. Inseason action to close fisheries, modify season dates, or modify vessel-based landing and possession limits may be considered when total commercial harvest in this management area is approaching its harvest guideline. Electronic Fish Tickets must be submitted within 24 hours of landing.

When the fishery is closed from Humbug Mountain to the Oregon/California border and open to the south, vessels with fish on board caught in the open area off California may seek temporary mooring in Brookings, OR, prior to landing in California only if such vessels first notify the Chetco River U.S. Coast Guard (USCG) Station via very high frequency (VHF) channel 22A between the hours of 0500 and 2200 and provide the vessel name, number of fish on board, and estimated time of arrival.

California State regulations require that all salmon be made available to a California Department of Fish and Wildlife (CDFW) representative for sampling immediately at the port of landing. Any person in possession of a salmon with a missing adipose fin, upon request by an authorized agent or employee of the CDFW, shall immediately relinquish the head of the salmon to the State (California Fish and Game Code section 8226).

B. Minimum Size (Total Length in Inches)

Table 1—Minimum Size Limits for Salmon in the 2025-2026 Commercial Salmon Fisheries
| Chinook salmon: Total length | Chinook salmon: Head-off | Coho salmon: Total length | Coho salmon: Head-off | Pink
Area (when open in 2025):
North of Cape Falcon, OR | 27 | 20.5 | 16 | 12 | None.
Cape Falcon to Humbug Mountain | 28 | 21.5 | 16 | 12 | None.
Humbug Mountain to OR/CA border | 28 | 21.5 |  |  | None.
OR/CA border to Humboldt South Jetty |  |  |  |  |
Lat. 40°10′0″ N to Point Arena |  |  |  |  |
Point Arena to Pigeon Point |  |  |  |  |
Pigeon Point to U.S./Mexico border |  |  |  |  |
Area (when open in 2026):
North of Cape Falcon, OR |  |  |  |  |
Cape Falcon to Humbug Mountain | 28 |  |  |  |
Humbug Mountain to OR/CA border | 28 |  |  |  |
OR/CA border to Humboldt South Jetty | 27 |  |  |  |
Lat. 40°10′0″ N to Point Arena | 27 |  |  |  |
Point Arena to Pigeon Point | 27 |  |  |  |
Pigeon Point to U.S./Mexico border | 27 |  |  |  |
Metric equivalents: 28.0 in = 71.1 cm, 27.0 in = 68.5 cm, 21.5 in = 54.6 cm, 20.5 in = 52.1 cm, 16.0 in = 40.6 cm, and 12.0 in = 30.5 cm.

C. Requirements, Definitions, Restrictions, or Exceptions

C.1. Compliance With Minimum Size or Other Special Restrictions

All salmon on board a vessel must meet the minimum size, landing/possession limit, or other special requirements for the area being fished and the area in which they are landed if the area is open or has been closed less than 48 hours for that species of salmon. Salmon may be landed in an area that has been closed for a species of salmon more than 48 hours only if they meet the minimum size, landing/possession limit, or other special requirements for the area in which they were caught. Salmon may not be filleted prior to landing.

Any person who is required to report a salmon landing by applicable State law must include on the State landing receipt for that landing both the number and weight of salmon landed by species. States may require fish landing/receiving tickets be kept on board the vessel for 90 days or more after landing to account for all previous salmon landings.

C.2. Gear Restrictions

a. Salmon may be taken only by hook and line using single point, single shank, barbless hooks.

b. Cape Falcon to the Oregon/California border: No more than four spreads are allowed per line.

c. Oregon/California border to U.S./Mexico border: No more than six lines are allowed per vessel, and barbless circle hooks are required when fishing with bait by any means other than trolling.

C.3. Gear Definitions

Trolling: Fishing from a boat or floating device that is making way by means of a source of power other than drifting by means of the prevailing water current or weather conditions.

Troll fishing gear: One or more lines that drag hooks behind a moving fishing vessel engaged in trolling. In that portion of the fishery management area off Oregon and Washington, the line or lines must be affixed to the vessel and must not be intentionally disengaged from the vessel at any time during the fishing operation.

Spread: A single leader connected to an individual lure and/or bait.

Circle hook: A hook with a generally circular shape and a point which turns inward, pointing directly to the shank at a 90° angle.

C.4. Vessel Operation in Closed Areas With Salmon on Board

a. Except as provided under C.4.b below, it is unlawful for a vessel to have troll fishing gear in the water while in any area closed to fishing for a certain species of salmon, while possessing that species of salmon; however, fishing for species other than salmon is not prohibited if the area is open for such species, and no prohibited salmon are in possession.

b. When Genetic Stock Identification (GSI) samples will be collected in an area closed to commercial salmon fishing, the scientific research permit holder shall notify NOAA Office of Law Enforcement, USCG, CDFW, WDFW, ODFW, and Oregon State Police at least 24 hours prior to sampling and provide the following information: the vessel name, date, location, and time collection activities will be done. Any vessel collecting GSI samples in a closed area shall not possess any salmon other than those from which GSI samples are being collected. Salmon caught for collection of GSI samples must be immediately released in good condition after collection of samples.

C.5. Control Zone Definitions

a. Cape Flattery Control Zone—The area from Cape Flattery (48°23′00″ N lat.) to the northern boundary of the U.S. EEZ; and the area from Cape Flattery south to Cape Alava (48°10′00″ N lat.) and east of 125°05′00″ W long.

b. Salmon Troll Yelloweye Rockfish Conservation Area—The area in Washington Marine Catch Area 3 from 48°00.00′ N lat.; 125°14.00′ W long. to 48°02.00′ N lat.; 125°14.00′ W long. to 48°02.00′ N lat.; 125°16.50′ W long. to 48°00.00′ N lat.; 125°16.50′ W long. and connecting back to 48°00.00′ N lat.; 125°14.00′ W long.

c. Grays Harbor Control Zone—The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

d. Columbia Control Zone—An area at the Columbia River mouth, bounded on the west by a line running northeast/southwest between the red lighted Buoy #4 (46°13′35″ N lat., 124°06′50″ W long.) and the green lighted Buoy #7 (46°15′09′ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long.), and then along the north jetty to the point of intersection with the Buoy #10 line; and, on the south, by a line running northeast/southwest between the red lighted Buoy #4 and tip of the south jetty (46°14′03″ N lat., 124°04′05″ W long.), and then along the south jetty to the point of intersection with the Buoy #10 line.

e. Klamath Control Zone—The ocean area at the Klamath River mouth bounded on the north by 41°38′48″ N lat. (approximately 6 nmi (11 km) north of the Klamath River mouth); on the west by 124°23′00″ W long. (approximately 12 nmi (22 km) off shore); and on the south by 41°26′48″ N lat. (approximately 6 nmi (11 km) south of the Klamath River mouth).

f. Waypoints for the 40-fathom (73-meter) regulatory line from Cape Falcon to Humbug Mountain (50 CFR 660.71(o)(12) through (62)), when in place.

C.6. Notification When Unsafe Conditions Prevent Compliance With Regulations

If prevented by unsafe weather conditions or mechanical problems from meeting special management area landing restrictions, vessels must notify the USCG and receive acknowledgment of such notification prior to leaving the area. This notification shall include the name of the vessel, the port where delivery will be made, the approximate number of salmon (by species) on board, the estimated time of arrival, and the specific reason the vessel is not able to meet special management area landing restrictions.

In addition to contacting the USCG, vessels fishing south of the Oregon/California border must notify CDFW within 1 hour of leaving the management area by calling 800-889-8346 and providing the same information as reported to the USCG. All salmon must be offloaded within 24 hours of reaching port.

C.7. Incidental Halibut Harvest

Permit applications for incidental harvest for Pacific halibut during commercial salmon fishing must be obtained from NMFS.

a. Pacific halibut retained must be no less than 32 inches (81.3 cm) in total length, measured from the tip of the lower jaw with the mouth closed to the extreme end of the middle of the tail, and must be landed with the head on.

b. During the salmon troll season, incidental harvest is allowed if quota is available. WDFW, ODFW, and CDFW will monitor landings. NMFS may make inseason adjustments to the landing restrictions to assure that the incidental harvest rate is appropriate for salmon and halibut availability, does not encourage target fishing on halibut, and does not increase the likelihood of exceeding the quota for this fishery, and may prohibit retention of halibut in the non-Indian salmon troll fishery if there is risk in exceeding the subquota for the salmon troll fishery or the non-Tribal commercial fishery allocation. Inseason adjustments will be announced on the NMFS hotline (phone: 800-662-9825 or 206-526-6667).

c. Incidental Pacific halibut catch regulations in the commercial salmon troll fishery adopted for 2025, prior to any 2025 inseason action, will be in effect when incidental Pacific halibut retention opens on April 1, 2026, unless otherwise modified by inseason action at the March 2026 Council meeting.

d. Beginning May 16, 2025, through the end of the 2025 salmon troll fishery, and beginning April 1, 2026, until modified through inseason action or superseded by the 2026 management measures, permit holders may land or possess no more than one Pacific halibut per two Chinook salmon, except one Pacific halibut may be possessed or landed without meeting the ratio requirement, and no more than 35 halibut may be possessed or landed per trip.

e. “C-shaped” yelloweye rockfish conservation area is an area to be voluntarily avoided for salmon trolling. NMFS and the Council request salmon trollers voluntarily avoid this area in order to protect yelloweye rockfish. The area is defined in the Pacific Council Halibut Catch Sharing Plan in the North Coast subarea (Washington Marine Area 3), with the following coordinates in the order listed:

48°18′ N lat.; 125°18′ W long.;

48°18′ N lat.; 124°59′ W long.;

48°11′ N lat.; 124°59′ W long.;

48°11′ N lat.; 125°11′ W long.;

48°04′ N lat.; 125°11′ W long.;

48°04′ N lat.; 124°59′ W long.;

48°00′ N lat.; 124°59′ W long.;

48°00′ N lat.; 125°18′ W long.;

and connecting back to 48°18′ N lat.; 125°18′ W long.

C.8. Inseason Management

In addition to standard inseason actions or modifications:

a. Chinook salmon remaining from the May through June non-Indian commercial troll harvest guideline north of Cape Falcon may be transferred to the July through September harvest guideline if the transfer would not result in exceeding preseason impact expectations on any stocks.

b. Chinook salmon remaining from May, June, and/or July non-Indian commercial troll quotas in the Oregon or California KMZ may be transferred to the Chinook salmon quota for the next open period if the transfer would not result in exceeding preseason impact expectations on any stocks.

c. NMFS may transfer salmon between the recreational and commercial fisheries north of Cape Falcon if there is agreement among the areas' representatives on the Council's Salmon Advisory Subpanel (SAS), and if the transfer would not result in exceeding preseason impact expectations on any stocks.

d. The Council will consider inseason recommendations for special regulations for any experimental fisheries annually in March; proposals must meet Council protocol and be received in November of the year prior.

e. If retention of unmarked coho salmon (adipose fin intact) is permitted by inseason action, the allowable coho salmon quota will be adjusted to ensure preseason projected impacts on all stocks is not exceeded.

f. Landing limits may be modified inseason to sustain season length and keep harvest within overall quotas.

g. Deviations from the allocation of allowable ocean harvest of coho salmon in the area south of Cape Falcon may be allowed to meet consultation standards for ESA-listed stocks (FMP 5.3.2). Therefore, because 2025 fisheries are constrained to meet ESA-conservation objectives as described in the preamble to the rule, any rollovers resulting in a deviation from the south of Cape Falcon coho salmon allocation schedule would fall underneath this exemption.

C.9. State Waters Fisheries

Consistent with Council management objectives:

a. The State of Oregon may establish additional late-season fisheries in State waters.

b. The State of California may establish limited fisheries in selected State waters.

c. Check State regulations for details.

C.10. California KMZ Definition: For the purposes of California Fish and Game Code Section 8232.5, the California KMZ for the ocean salmon season is that area from Humbug Mountain, OR, to Latitude 40°10′ N.

C.11. Latitudes for geographical reference of major landmarks along the West Coast are listed in section 5 of this final rule.

C.12. California 24-hour reporting requirements: Salmon harvested under quota or harvest limit regulations must be reported within 24 hours of landing via electronic fish tickets. Electronic fish tickets shall be completed at the time of the receipt, purchase, or transfer of fish, whichever occurs first, and shall contain the number of salmon landed. Once the transfer of fish begins, all fish aboard the vessel are counted as part of the landing. The electronic fish ticket is a web-based form submitted through the “E-Tix” application, managed by the Pacific States Marine Fisheries Commission and located at https://etix.psmfc.org.

Section 2. Recreational Fishery Management Measures

Parts A, B, and C of this section contain requirements for participation in the 2025 recreational ocean salmon fishery. Part A identifies fishing areas from north to south, the open seasons for the area, and the salmon species allowed to be caught during the seasons. Part B specifies minimum size limits. Part C specifies special requirements, definitions, restrictions, and exceptions. All measures are subject to inseason management. California State regulations require that all salmon be made available to a CDFW representative for sampling immediately at the port of landing. Any person in possession of a salmon with a missing adipose fin, upon request by an authorized agent or employee of the CDFW, shall immediately relinquish the head of the salmon to the State (California Code of Regulations title 14 section 1.73).

A. Season Description

North of Cape Falcon, OR

U.S./Canada Border to Cape Alava (Neah Bay Subarea)

June 21 through the earlier of September 15 or attainment of of 12,600 Chinook salmon.

Open 7 days per week, June 21-July 3, all salmon except coho salmon, 1 salmon per day.

Beginning July 4, open 7 days per week, all salmon, with a subarea quota of 10,370 marked coho salmon, 2 salmon per day. No chum salmon retention beginning August 1. All coho salmon must be marked with a healed adipose fin clip.

Beginning August 1, no Chinook salmon retention east of the Bonilla-Tatoosh line during the ocean fishery.

Cape Alava to Queets River (La Push Subarea)

June 21 through the earlier of September 15 or attainment of 2,280 Chinook salmon.

Open seven days per week, June 21-July 3, all salmon except coho salmon, on1 salmon per day.

Beginning July 4, open 7 days per week, all salmon, with a subarea quota of 2,590 marked coho salmon, 2 salmon per day. No chum salmon retention beginning August 1. All coho salmon must be marked with a healed adipose fin clip.

Queets River to Leadbetter Point (Westport Subarea)

June 21 through the earlier of September 15, with a subarea guideline of 22,270 Chinook salmon.

Open seven days per week, June 21-28, all salmon except coho salmon, 1 salmon per day.

Beginning June 29, open 7 days per week, all salmon, with a 36,900 marked coho salmon subarea quota, 2 salmon per day, no more than 1 of which may be a Chinook salmon. All coho salmon must be marked with a healed adipose fin clip.

Leadbetter Point to Cape Falcon (Columbia River Subarea)

June 25 through the earlier of September 30, or 49,860 marked coho salmon subarea quota, with a subarea guideline of 16,600 Chinook salmon.

Open seven days per week, all salmon, two salmon per day, no more than one of which may be a Chinook salmon. All coho salmon must be marked with a healed adipose fin clip.

Prior to June 25, possession of salmon on board a vessel is prohibited on days when the subarea is closed to salmon retention.

Columbia Control Zone closed.

South of Cape Falcon

Cape Falcon to Humbug Mountain

May 16-July 15

September 1-October 31.

Open 7 days per week. All salmon, except coho salmon, except during the mark-selective coho salmon fishery and the non-mark-selective coho salmon fishery as described below, two salmon per day. Starting June 7, 2 salmon limit, of which only 1 may be a Chinook salmon. After September 30 or attainment of the non-select fishery quota, all salmon except coho salmon, 1 salmon per day.

Non-mark selective coho salmon fishery:

September 1 through the earlier of September 30 or attainment of a 30,000 non-mark-selective coho salmon quota.

Beginning October 1, the fishery is only open shoreward of the 40-fathom (73 meters) management line.

Cape Falcon to Oregon/California Border

Mark-selective coho salmon fishery:

June 7 through the earlier of August 24 or attainment of a 44,000 marked coho salmon quota.

Open 7 days per week, 2 salmon per day. When Chinook salmon retention is allowed, only 1 may be a Chinook salmon. All retained coho salmon must be marked with a healed adipose fin clip.

Any remainder of the mark-selective coho salmon quota may be transferred inseason on an impact-neutral basis to the September non-mark-selective coho salmon fishery from Cape Falcon to Humbug Mountain.

In 2026, the season will open on March 15 for all salmon except coho salmon, 2 salmon per day. The same gear restrictions as in 2025.

Humbug Mountain to Oregon/California Border (Oregon KMZ)

May 16-June 6

June 30-July 15.

Open 7 days per week. All salmon except coho salmon, except during the mark-selective coho salmon fishery. From May 16-June 6, 2 fish per day. From June 30-July 15, 2 salmon per day, of which only 1 may be Chinook salmon.

From Cape Falcon to Humbug Mountain:

Fishing in the Stonewall Bank yelloweye rockfish conservation area restricted to trolling only on days the all-depth recreational halibut fishery is open (call the halibut fishing hotline 1-800-662-9825 for specific dates).

Oregon/California Border to Latitude 40°10′ N (California KMZ)

June 7-8

July 5-6

July 31-August 3

August 25-31.

Inseason action may be taken to close open days when total Statewide harvest is approaching a Statewide harvest guideline of 7,000 Chinook salmon for the summer (June-August) season.

All salmon except coho salmon, 2 salmon per day. Klamath Control Zone closed in August. See California State regulations for additional closures adjacent to the Smith, Eel, and Klamath Rivers.

In 2026, the season opens May 1 for all salmon except coho salmon, 2 salmon per day. Inseason action to close fisheries, modify season dates, or modify the bag limit may be considered when sport harvest is approaching a harvest guideline.

Latitude 40°10′ N to Point Arena (Fort Bragg)

June 7-8

July 5-6

July 31-August 3

August 25-31.

Inseason action may be taken to close open days when total Statewide harvest is approaching a Statewide harvest guideline of 7,000 Chinook salmon for the summer (June-August) season.

All salmon except coho salmon, 2 salmon per day.

In 2026, the season opens on April 4 for all salmon except coho salmon, 2 salmon per day. Inseason action to close fisheries, modify season dates, or modify the bag limit may be considered when harvest is approaching a harvest guideline.

Point Arena to Pigeon Point (San Francisco)

June 7-8

July 5-6

July 31-August 3

August 25-31.

Inseason action may be taken to close open days when total Statewide harvest is approaching a Statewide harvest guideline of 7,000 Chinook salmon for the summer (June-August) season.

Point Reyes to Pigeon Point Subarea

September 4-7, 29-30;

October 1-5, 27-31.

Inseason action may be taken to close open days when total Statewide harvest approaching a Statewide harvest guideline of 7,500 Chinook salmon for the fall (September-October) season.

All salmon except coho salmon, 2 salmon per day.

In 2026, the season opens on April 4 for all salmon except coho salmon, 2 salmon per day. The same gear restrictions as in 2025. Inseason action to close fisheries, modify season dates, or modify the bag limit may be considered when harvest is approaching a harvest guideline.

Pigeon Point to U.S./Mexico Border (Monterey)

June 7-8

July 5-6

July 31-August 3

August 25-31.

Inseason action may be taken to close open days when total Statewide harvest is approaching a Statewide harvest guideline of 7,000 Chinook salmon for the summer (June-August) season.

Pigeon Point to Point Sur Subarea

September 4-7, 29-30.

Inseason action may be taken to close open days when total Statewide harvest is approaching a guideline of 7,500 Chinook salmon for the fall (September-October) season.

All salmon except coho salmon, 2 salmon per day.

In 2026, the season opens on April 4 for all salmon except coho salmon, 2 salmon per day. The same gear restrictions as in 2025. Inseason action to close fisheries, modify season dates, or modify the bag limit may be considered when harvest is approaching a harvest guideline.

B. Minimum Size (Total Length in Inches)

Table 2—Minimum Size Limits for Salmon in the 2025-2026 Recreational Salmon Fisheries
[In inches]
| Chinook salmon | Coho salmon | Pink salmon
Area (when open in 2025):
North of Cape Falcon (Neah Bay and La Push) | 24.0 | 16.0 | None.
North of Cape Falcon (Westport and Columbia River) | 22.0 | 16.0 | None.
Cape Falcon to Humbug Mountain | 24.0 | 16.0 | None.
Humbug Mountain to Oregon/California border | 24.0 | 16.0 | None.
Oregon/California border to Latitude 40°10′ N | 20.0 |  | 20.0.
Latitude 40°10′ N to Point Arena | 20.0 |  | 20.0.
Point Arena to Pigeon Point | 20.0 |  | 20.0.
Pigeon Point to U.S./Mexico border | 20.0 |  | 20.0.
Area (when open in 2026):
North of Cape Falcon (Westport and Columbia River) |  |  |
North of Cape Falcon (Neah Bay and La Push) |  |  |
Cape Falcon to Oregon/California border | 24.0 |  |
Oregon/California border to Latitude 40°10′ N | 20.0 |  |
Latitude 40°10′ N to Point Arena | 20.0 |  |
Point Arena to Pigeon Point | 24.0 |  |
Pigeon Point to U.S./Mexico border | 24.0 |  |
Metric equivalents: 24.0 in = 61.0 cm, 22.0 in = 55.9 cm, 16.0 in = 40.6 cm.

C. Requirements, Definitions, Restrictions, or Exceptions

C.1. Compliance With Minimum Size and Other Special Restrictions

All salmon on board a vessel must meet the minimum size or other special requirements for the area being fished and the area in which they are landed if that area is open. Salmon may be landed in an area that is closed only if they meet the minimum size or other special requirements for the area in which they were caught. Salmon may not be filleted or salmon heads removed prior to landing.

Ocean boat limits: Off the coast of Washington, Oregon, and California, each fisher aboard a vessel may continue to use angling gear until the combined daily limits of Chinook salmon and coho salmon for all licensed and juvenile anglers aboard have been attained (additional State restrictions may apply).

C.2. Gear Restrictions

Salmon may be taken only by hook and line using barbless hooks. All persons fishing for salmon and all persons fishing from a boat with salmon on board must meet the gear restrictions listed below for specific areas or seasons.

a. U.S./Canada border to Point Conception, CA: No more than one rod may be used per angler and no more than two single point, single shank, barbless hooks are required for all fishing gear.

b. Latitude 40°10′ N to Point Conception, CA: Single point, single shank, barbless circle hooks (see gear definitions below) are required when fishing with bait by any means other than trolling, and no more than two such hooks shall be used. When angling with two hooks, the distance between the hooks must not exceed 5 inches (12.7 cm) when measured from the top of the eye of the top hook to the inner base of the curve of the lower hook, and both hooks must be permanently tied in place (hard tied). Circle hooks are not required when artificial lures are used without bait.

C.3. Gear Definitions

a. Recreational fishing gear: Off Oregon and Washington, angling tackle consists of a single line that must be attached to a rod and reel held by hand or closely attended; the rod and reel must be held by hand while playing a hooked fish. No person may use more than one rod and line while fishing off Oregon or Washington. Off California, the line must be attached to a rod and reel held by hand or closely attended; weights directly attached to a line may not exceed 4 pounds (1.8 kilograms (kg)). While fishing off California north of Point Conception, no person fishing for salmon, and no person fishing from a boat with salmon on board, may use more than one rod and line. Fishing includes any activity which can reasonably be expected to result in the catching, taking, or harvesting of fish.

b. Trolling: Angling from a boat or floating device that is making way by means of a source of power, other than drifting by means of the prevailing water current or weather conditions.

c. Circle hook: A hook with a generally circular shape and a point which turns inward, pointing directly to the shank at a 90° angle.

C.4. Control Zone Definitions

a. The Bonilla-Tatoosh Line: A line running from the western end of Cape Flattery to Tatoosh Island Lighthouse (48°23′30″ N lat., 124°44′12″ W long.) to the buoy adjacent to Duntze Rock (48°24′37″ N lat., 124°44′37″ W long.), then in a straight line to Bonilla Point (48°35′39″ N lat., 124°42′58″ W long.) on Vancouver Island, British Columbia.

b. Columbia Control Zone: An area at the Columbia River mouth, bounded on the west by a line running northeast/southwest between the red lighted Buoy #4 (46°13′35″ N lat., 124°06′50″ W long.) and the green lighted Buoy #7 (46°15′09″ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long. and then along the north jetty to the point of intersection with the Buoy #10 line; and on the south, by a line running northeast/southwest between the red lighted Buoy #4 and tip of the south jetty (46°14′03″ N lat., 124°04′05″ W long.), and then along the south jetty to the point of intersection with the Buoy #10 line.

c. Stonewall Bank YRCA: The area defined by the following coordinates in the order listed:

44°37.46′ N lat.; 124°24.92′ W long.

44°37.46′ N lat.; 124°23.63′ W long.

44°28.71′ N lat.; 124°21.80′ W long.

44°28.71′ N lat.; 124°24.10′ W long.

44°31.42′ N lat.; 124°25.47′ W long.

and connecting back to 44°37.46′ N lat.; 124°24.92′ W long.

d. Klamath Control Zone: The ocean area at the Klamath River mouth bounded on the north by 41°38′48″ N lat. (approximately 6 nmi (11 km) north of the Klamath River mouth); on the west by 124°23′00″ W long. (approximately 12 nmi (22 km) offshore); and, on the south by 41°26′48″ N lat. (approximately 6 nmi (11 km) south of the Klamath River mouth).

e. Waypoints for the 40-fathom (73-meters) regulatory line from Cape Falcon to Humbug Mountain (50 CFR 660.71(o)(12) through (62)), when in place.

C.5. Inseason Management

Regulatory modifications may become necessary inseason to meet preseason management objectives such as quotas, harvest guidelines, and season duration. In addition to standard inseason actions or modifications, actions could include modifications to bag limits or days open to fishing and extensions or reductions in areas open to fishing.

a. Coho salmon may be transferred inseason among recreational subareas north of Cape Falcon to help meet the recreational season duration objectives for each subarea after conferring with representatives of the affected ports and the Council's SAS recreational representatives north of Cape Falcon and if the transfer would not result in exceeding preseason impact expectations on any stocks.

b. Salmon may be transferred between the recreational and commercial fisheries north of Cape Falcon if there is agreement among the areas' representatives of the SAS and if the transfer would not result in exceeding preseason impact expectations on any stocks.

c. Fishery managers may consider inseason action modifying regulations restricting retention of unmarked (adipose fin intact) coho salmon. To remain consistent with preseason expectations, any inseason action shall consider, if significant, the difference between observed and preseason forecasted (adipose-clipped) mark rates. Such a consideration may also include a change in bag limit of two salmon, no more than one of which may be a coho salmon.

d. Marked coho salmon remaining from the Cape Falcon to the Oregon/California Border: Recreational mark-selective coho salmon quota may be transferred inseason to the Cape Falcon to Humbug Mountain non-mark-selective recreational fishery if the transfer would not result in exceeding preseason impact expectations on any stocks.

e. Deviations from the allocation of allowable ocean harvest of coho salmon in the area south of Cape Falcon may be allowed to meet consultation standards for ESA-listed stocks (FMP 5.3.2). Therefore, any rollovers resulting in a deviation from the south of Cape Falcon coho salmon allocation schedule would fall underneath this exemption.

C.6. Additional Seasons in State Territorial Waters

Consistent with Federal management objectives for the EEZ off the U.S. West Coast, the States of Washington, Oregon, and California may establish limited seasons in State waters. Check State regulations for details.

C.7. Vessel Operation in Closed Areas With Salmon on Board

a. Except as provided under C.7.b and C.7.c below, it is unlawful for a vessel to fish while in any area closed to fishing for a certain species of salmon while possessing that species of salmon; however, fishing for species other than salmon is allowed if the area is open for such species and no prohibited salmon are in possession.

b. It is unlawful to possess a salmon species within the Oregon KMZ when the fishing for that salmon species is prohibited within the Oregon KMZ, regardless of where taken.

c. It is unlawful to possess a salmon species within the California KMZ when the fishing for that salmon species is prohibited within the California KMZ, regardless of where taken.

Section 3. Treaty Indian Management Measures

Parts A, B, and C of this section contain the requirements for participation in the 2025 Treaty Indian salmon fishery.

In 2026, the season will open May 1, consistent with all preseason regulations in place for Treaty Indian Troll fisheries during May 16-June 30, 2025. All catch in May 2026 applies against the 2026 Treaty Indian Troll fisheries quota. This opening could be modified following review at the March and/or April 2026 Council meetings.

A. Season Descriptions

May 1 through the earlier of June 30 or the harvest of 22,500 Chinook salmon quota.

All salmon may be retained except coho salmon. If the Chinook salmon quota is exceeded, the excess will be deducted from the later all-salmon season.

July 1 through the earlier of a date in September to be established in Tribal regulations or attainment of the 22,500 Chinook salmon quota or 37,500 coho salmon quota.

All salmon.

B. Minimum Size (Inches)

Table 3—Minimum Size Limits for Salmon in the 2025 Treaty Indian Ocean Salmon Fisheries
[In inches]
Area (when open) | Chinook salmon: Total length | Chinook salmon: Head-off | Coho salmon: Total length | Coho salmon: Head-off | Pink
North of Cape Falcon | 24.0 | 18.0 | 16.0 | 12.0 | None.
Metric equivalents: 24.0 in = 61.0 cm, 18.0 in = 45.7 cm, 16.0 in = 40.6 cm, 12.0 in = 30.5 cm.

C. Requirements, Definitions, Restrictions, or Exceptions

C.1. Tribe and Area Boundaries

All boundaries may be changed to include such other areas as may hereafter be authorized by a Federal court for that Tribe's treaty fishery.

S'Klallam—Washington State Statistical Area 4B (defined to include those waters of Puget Sound easterly of a line projected from the Bonilla Point light on Vancouver Island to the Tatoosh Island light, thence to the most westerly point on Cape Flattery and westerly of a line projected true north from the fishing boundary marker at the mouth of the Sekiu River [WAC 220-301-030]).

Makah—Washington State Statistical Area 4B and that portion of the Fishery Management Area (FMA) north of 48°02′15″ N lat. (Norwegian Memorial) and east of 125°44′00″ W long.

Quileute—A polygon commencing at Cape Alava, located at lat. 48°10′00″ N, long. 124°43′56.9″ W; then proceeding west approximately 40 nmi (74 km) at that latitude to a northwestern point located at lat. 48°10′00″ N, long. 125°44′00″ W; then proceeding in a southeasterly direction mirroring the coastline at a distance no farther than 40 nmi (74 km) from the mainland Pacific coast shoreline at any line of latitude, to a southwestern point at lat. 47°31′42″ N, long. 125°20′26″ W; then proceeding east along that line of latitude to the Pacific coast shoreline at lat. 47°31′42″ N, long. 124°21′9.0″ W.

Hoh—A polygon commencing at the Pacific coast shoreline near the mouth of the Quillayute River, located at lat. 47°54′30″ N, long. 124°38′31″ W; then proceeding west approximately 40 nmi (74.08 km) at that lat. to a northwestern point located at lat. 47°54′30″ N, long. 125°38′18″ W; then proceeding in a southeasterly direction mirroring the coastline at a distance no farther than 40 nmi (74.08 km) from the mainland Pacific coast shoreline, to a point located at lat. 47°31′42″ N, long. 125°20′26″ W, then proceeding east along that line of lat. approximately 10 nmi (18.52 km) to a point located at latitude 47°31′42″ N, long. 125°5′48″ W, then proceeding in a southeasterly direction mirroring the coastline at a distance no farther than 30 nmi (55.56 km) from the mainland Pacific coast shoreline to a point located at lat. 47°21′00″ N, long. 125°2′52″ W; then proceeding east along that line of lat. to the Pacific coast shoreline near the mouth of the Quinault River, located at lat. 47°21′00″ N, long. 124°18′8″ W.

Quinault—A polygon commencing at the Pacific coast shoreline near Destruction Island, located at lat. 47°40′06″ N, long. 124°23′51.362″ W; then proceeding west approximately 30 nmi (55.6 km) at that latitude to a northwestern point located at lat. 47°40′06″ N, long. 125°08′30″ W; then proceeding in a southeasterly direction mirroring the coastline no farther than 30 nmi (55.6 km) from the mainland Pacific coast shoreline at any line of latitude to a southwestern point at lat. 46°53′18″ N, long. 124°53′53″ W; then proceeding east along that line of latitude to the Pacific coast shoreline at lat. 46°53′18″ N, long. 124°7′36.6″ W.

C.2. Gear Restrictions

a. Single point, single shank, barbless hooks are required in all fisheries.

b. No more than eight fixed lines per boat.

c. No more than four hand-held lines per person in the Makah area fishery (Washington State Statistical Area 4B and that portion of the FMA north of 48°02′15″ N lat. (Norwegian Memorial) and east of 125°44′00″ W long.)

C.3. Quotas

a. The quotas include troll catches by the S'Klallam and Makah Tribes in Washington State Statistical Area 4B from May 1 through the earlier of a date in September, to be established in Tribal regulations, or the harvest of 22,500 Chinook salmon quota or 37,500 coho salmon quota.

b. The Quileute Tribe may continue a ceremonial and subsistence fishery during the time frame of October 1 through October 15 in the same manner as in 2004—2015. Fish taken during this fishery are to be counted against treaty troll quotas established for the 2025 season (estimated harvest during the October ceremonial and subsistence fishery: 20 Chinook salmon; 40 coho salmon).

c. The treaty troll Tribes may conduct an experimental fishery through the month of September for gathering genetic stock identification (GSI) data to inform the treaty troll fishery in future years. Impacts from this non-retention fishery are accounted for in the modeling associated with the treaty troll fishery.

C.4. Area Closures

a. The area within a 6 nmi radius of the mouths of the Queets River (47°31′42″ N. lat.) and the Hoh River (47°45′12″ N. lat.) is closed to commercial fishing.

b. A closure within 2 nmi of the mouth of the Quinault River (47°21′00″ N. lat.) may be enacted by the Quinault Nation and/or the State of Washington and will not adversely affect the Federal management regime.

C.5. Inseason Management

In addition to standard inseason actions or modifications, Chinook salmon remaining from the May through June treaty-Indian ocean troll harvest guideline north of Cape Falcon may be transferred to the July through September harvest guideline on a fishery impact equivalent basis.

Section 4. Halibut Retention

Vessels participating in the commercial salmon non-Indian troll fishery in Area 2A that have obtained the appropriate permit may retain halibut caught incidentally during authorized periods in conformance with the Pacific Halibut Fisheries Catch Sharing Plan 2025 annual management measures (90 FR 13293, March 21, 2025). An ocean salmon troller may participate in the halibut incidental catch fishery during the salmon troll season or in the directed commercial fishery targeting halibut but not both.

If the sub-quota for this fishery has not been harvested during the April-June portion of the salmon troll fishery, then incidental halibut harvest will be allowed in July and continue until the amount of halibut that was initially available as the quota for the non-Indian salmon troll fishery is taken or until the end of the season date for commercial halibut is determined by NMFS and implemented in the Federal Register (typically early October). If the landings are projected to exceed the 45,797 pounds (20,773 kg) preseason allocation to the salmon troll fishery or the total Area 2A non-Indian commercial halibut allocation, NMFS will take inseason action to prohibit retention of halibut in the non-Indian salmon troll fishery.

Incidental halibut harvest regulations, including season dates, management measures, and total allowable catch for each International Pacific Halibut Commission management area, are listed under C.7 of section 1 of this final rule.

Section 5. Geographical Landmarks

Geographical landmarks referenced in this rule are at the following locations:

U.S./Canada border | 49°00′00″ N lat.
Cape Flattery, WA | 48°23′00″ N lat.
Cape Alava, WA | 48°10′00″ N lat.
Queets River, WA | 47°31′42″ N lat.
Leadbetter Point, WA | 46°38′10″ N lat.
Cape Falcon, OR | 45°46′00″ N lat.
South end Heceta Bank Line, OR | 43°58′00″ N lat.
Humbug Mountain, OR | 42°40′30″ N lat.
Oregon-California border | 42°00′00″ N lat.
Humboldt South Jetty, CA | 40°45′53″ N lat.
40°10′ line (near Cape Mendocino, CA) | 40°10′00″ N lat.
Horse Mountain, CA | 40°05′00″ N lat.
Point Arena, CA | 38°57′30″ N lat.
Point Reyes, CA | 37°59′44″ N lat.
Point San Pedro, CA | 37°35′40″ N lat.
Pigeon Point, CA | 37°11′00″ N lat.
Point Sur, CA | 36°18′00″ N lat.
Point Conception, CA | 34°27′00″ N lat.
U.S./Mexico border | 34°27′00″ N lat.

Section 6. Inseason Notice Procedures

Notice of inseason management actions will be provided by a telephone hotline administered by the WCR, NMFS, 800-662-9825 or 206-526-6667, and by USCG Notice to Mariners broadcasts. These broadcasts are announced on Channel 16 VHF-FM and 2182 KHz at frequent intervals. The announcements designate the channel or frequency over which the Notice to Mariners will be immediately broadcast. Inseason actions will also be published in the Federal Register as soon as practicable. Since provisions of these management measures may be altered by inseason actions, fishers should monitor either the telephone hotline or USCG broadcasts for current information for the area in which they are fishing.

Classification

NMFS is issuing this rule pursuant to section 305(d) of the MSA. In a previous action taken pursuant to section 304(b), the Council designed the FMP to authorize NMFS to take this action pursuant to MSA section 305(d). See 50 CFR 660.408. These regulations are being promulgated under the authority of 16 U.S.C. 1855(d) and 16 U.S.C. 773(c).

This final rule has been determined to be not significant for purposes of Executive Order 12866.

This final rule is not an Executive Order 14192 regulatory action because it is a routine fishing action under the Magnuson-Stevens Fishery Conservation and Management Act.

The Assistant Administrator for Fisheries finds good cause under 5 U.S.C. 553(b)(B) to waive the requirement for prior notice and opportunity for public comment, as such procedures would be impracticable and contrary to the public interest.

The annual salmon management cycle begins May 16 and continues through May 15 of the following year. The time frame of the preseason process for determining the annual modifications to ocean salmon fishery management measures depends on when the pertinent biological data are available. For the 2025 fishing regulations, the current stock abundance was not available until February. Salmon stocks are managed to meet annual spawning escapement goals or specific exploitation rates. Achieving either of these objectives requires designing management measures that are appropriate for the ocean abundance predicted for that year. These pre-season abundance forecasts, which are derived from previous years' observed spawning escapement, vary substantially from year to year and are not available until February because spawning escapement continues through the fall and early winter.

The planning and public review process associated with developing the regulations is initiated in February as soon as the forecast information becomes available. The process requires coordination of management actions of four States, numerous Indian Tribes, and the Federal Government, as well as consideration of information from the Pacific Salmon Commission and Canadian managers whose fisheries harvest salmon stocks caught in PFMC fisheries. That information is not available until April 1 of each year. All of these entities have management authority over the stocks. This complex process includes the affected user groups as well as the general public. Providing the opportunity for prior notice and public comments on the measures through a proposed and final rulemaking process would require 30 to 60 days in addition to the 2-month period required for the development of the regulations. Delaying the implementation of annual fishing regulations, which are based on the current stock abundance projections, for an additional 30-60 days would require that fishing regulations for May and June be set in the previous year, without the benefit of information regarding current stock abundance. Because a substantial amount of fishing normally occurs during late May and June, managing the fishery with measures developed using the prior year's data could have significant adverse effects on the managed stocks, including ESA-listed stocks. Although salmon fisheries that open prior to May 16 are managed under measures developed the previous year (with some inseason modifications), relatively little harvest occurs during that period (e.g., on average, 10 percent of commercial and recreational harvest occurred prior to May 1 during the years 2018 through 2024). Allowing the much more substantial harvest levels normally associated with the late May and June salmon seasons to be promulgated under the prior year's regulations would impair NMFS's ability to protect weak and ESA-listed salmon stocks and to provide harvest opportunities where appropriate. The choice of May 16 as the beginning of the regulatory season balances the need to gather and analyze the data needed to meet the management objectives of the salmon FMP and the need to manage the fishery using the best available scientific information.

If the 2025 measures are not in place on May 16, salmon fisheries will not open as scheduled. This would result in lost fishing opportunities, negative economic impacts, and confusion for the public as the State fisheries adopt concurrent regulations that conform to the Federal management measures.

In addition, these measures were developed with significant public input. As described above, 311 oral and written public comment were received and considered throughout the process of developing these management measures. Based upon the above-described public comment already received and the need to have these measures effective on May 16, NMFS has concluded it would be impracticable and contrary to the public interest to provide an opportunity for prior notice and public comment under 5 U.S.C. 553(b)(B).

The Assistant Administrator for Fisheries also finds that good cause exists under 5 U.S.C. 553(d)(3) to waive the 30-day delay in the date of effectiveness of this final rule. As previously discussed, essential data were not available until February, and management measures were not finalized until mid-April. These measures are essential to conserve threatened and endangered salmon stocks and other ESA-listed species affected by Council fisheries, rebuild overfished stocks, and to provide for the harvest of more abundant salmon stocks. Delaying the date of effectiveness of these measures by 30 days could compromise the ability of some stocks to attain their conservation objectives, preclude harvest opportunity, and negatively impact anticipated international, State, and Tribal salmon fisheries, thereby undermining the purposes of this agency action and the requirements of the MSA.

To enhance the fishing industry's notification of these new measures, and to minimize the burden on the regulated community required to comply with the new regulations, NMFS is announcing the new measures over the telephone hotline (800-662-9825 or 206-526-6667) used for inseason management actions and is posting the regulations on its WCR website (https://www.fisheries.noaa.gov/action/fisheries-west-coast-states-west-coast-salmon-fisheries-2025-management-measures).

NMFS is also advising the States of Washington, Oregon, and California of the new management measures. These States announce the seasons for applicable State and Federal fisheries through their own public notification systems.

Because prior notice and an opportunity for public comment are not required to be provided for this rule by 5 U.S.C. 553, or any other law, the analytical requirements of the Regulatory Flexibility Act, 5 U.S.C. 601 et seq., are not applicable. Accordingly, no Regulatory Flexibility Analysis is required for this rule, and none has been prepared. This action contains collection-of-information requirements subject to the Paperwork Reduction Act (PRA), and which have been approved by the Office of Management and Budget (OMB) under control number 0648-0433. The current information collection approval expires on November 30, 2026. The public reporting burden for providing notifications if landing area restrictions cannot be met is estimated to average 15 minutes per response. This estimate includes the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB control number.

This final rule was developed after meaningful consultation with the Tribal representative on the Council, who has agreed with the provisions that apply to Tribal vessels, and representatives of several Tribes participated in the Council meeting and provided testimony on the management measures.

Authority: 16 U.S.C. 773-773k; 1801 et seq.

Dated: May 12, 2025.
Samuel D. Rauch III,
Deputy Assistant Administrator for Regulatory Programs, National Marine Fisheries Service.

[FR Doc. 2025-08741 Filed 5-13-25; 4:15 pm]

BILLING CODE 3510-22-P